DEPARTMENT OF HOMELAND SECURITY

[Docket No. CISA-2024-0035]

National Security Telecommunications Advisory Committee

AGENCY: Cybersecurity and Infrastructure Security Agency (CISA), Department of Homeland Security (DHS).

ACTION: Notice of open Federal advisory committee meeting; request for comments.

SUMMARY: CISA is publishing this notice to announce the President's National Security Telecommunications Advisory Committee (NSTAC) meeting on February 26, 2025. The public can access the meeting via teleconference.

DATES: Meeting Registration: Registration to attend the meeting via teleconference is required and must be received no later than 5 p.m. eastern standard time (EST) on February 24, 2025. For more information on how to participate, please contact NSTAC@mail.cisa.dhs.gov.

Speaker Registration: Registration to speak during the meeting's public comment period must be received no later than 5 p.m. EST on February 19, 2025.

Written Comments: Written comments must be received no later than 5 p.m. EST on February 19, 2025.

Meeting Date: The NSTAC will meet via teleconference on February 26, 2025, from 2 to 3 p.m. EST. The meeting may close early if the committee has completed its business.

ADDRESSES: The NSTAC meeting will be open to the public, per 41 CFR 102-3.150 and will be held via teleconference. For access to the teleconference, or to request special assistance, please email NSTAC@mail.cisa.dhs.gov by 5 p.m. EST on February 24, 2025. The NSTAC is committed to ensuring all participants have equal access regardless of disability status. If you require a reasonable accommodation due to a disability to fully participate, please contact the individual listed in the FOR FURTHER INFORMATION CONTACT section as soon as possible.

Comments: Members of the public are invited to provide comments on issues that will be considered by the committee as listed in the SUPPLEMENTARY INFORMATION section below. Associated materials that may be discussed during the meeting will be made available for review at https://www.cisa.gov/nstac prior to the day of the meeting. Comments should be submitted by 5:00 p.m. EST on February 19, 2025, and must be identified by Docket Number CISA-2024-0035. Comments may be submitted by one of the following methods:

• Federal eRulemaking Portal: www.regulations.gov. Please follow the instructions for submitting written comments.

• Email: NSTAC@mail.cisa.dhs.gov. Include the Docket Number CISA-2024-0035 in the subject line of the email.

Instructions: All submissions received must include the words “Cybersecurity and Infrastructure Security Agency” and the Docket Number for this action. Comments received will be posted without alteration to www.regulations.gov, including any personal information provided. You may wish to review the Privacy & Security Notice available via a link on the homepage of www.regulations.gov.

Docket: For access to the docket and comments received by the NSTAC, please go to www.regulations.gov and enter docket number CISA-2024-0035.

A public comment period is scheduled to be held during the meeting from 2:30 to 2:35 p.m. EST. Speakers who wish to participate in the public comment period must email NSTAC@mail.cisa.dhs.gov to register. Speakers should limit their comments to three minutes and will speak in order of registration. Please note that the public comment period may end before the time indicated, following the last request for comments.

FOR FURTHER INFORMATION CONTACT: Christina Berger, 202-701-6354, NSTAC@mail.cisa.dhs.gov.

SUPPLEMENTARY INFORMATION: The NSTAC is established under the authority of Executive Order (E.O.) 12382, dated September 13, 1982, as amended by E.O. 13286 and 14048, continued under the authority of E.O. 14109, dated September 30, 2023. Notice of this meeting is given under Federal Advisory Committee Act (FACA), 5 U.S.C. chapter 10. The NSTAC advises the President on matters related to national security and emergency preparedness (NS/EP) telecommunications and cybersecurity policy.

Agenda: The NSTAC will hold a meeting via teleconference on Tuesday, February 26, 2025, from 2 to 3 p.m. EST to discuss current NSTAC activities and the government's ongoing cybersecurity and NS/EP communications initiatives. This meeting is open to the public and will include: (1) remarks from the administration and CISA leadership on salient NS/EP and cybersecurity efforts; (2) a status update on the current NSTAC study; and (3) a deliberation and vote on the NSTAC Report to the President on Principles for Baseline Security Offerings from Cloud Service Providers.

Dated: January 13, 2025.
Christina Berger,
Designated Federal Officer, National Security Telecommunications Advisory Committee, Cybersecurity and Infrastructure Security Agency, Department of Homeland Security.

[FR Doc. 2025-01193 Filed 1-16-25; 8:45 am]

BILLING CODE 9111-LF-P